DEPARTMENT OF HOUSING AND URBAN DEVELOPMENT

[Docket No. FR-5752-N-08]

30-Day Notice of Proposed Information Collection: Housing Discrimination Information Form HUD-903.1, HUD 903.1A, HUD-903-1B, HUD-903.1F, HUD-903.1KOR, HUD-903.1C, HUD-903.1CAM, HUD-903.1RUS,903-1_Somali

AGENCY: Office of the Chief Information Officer, HUD.

ACTION: Notice.

SUMMARY: HUD has submitted the proposed information collection requirement described below to the Office of Management and Budget (OMB) for review, in accordance with the Paperwork Reduction Act. The purpose of this notice is to allow for an additional 30 days of public comment.

DATES: Comments Due Date: February 24, 2014.

ADDRESSES: Interested persons are invited to submit comments regarding this proposal. Comments should refer to the proposal by name and/or OMB Control Number and should be sent to: HUD Desk Officer, Office of Management and Budget, New Executive Office Building, Washington, DC 20503; fax: 202-395-5806. Email: OIRA_Submission@omb.eop.gov.

FOR FURTHER INFORMATION CONTACT: Colette Pollard, Reports Management Officer, QDAM, Department of Housing and Urban Development, 451 7th Street SW., Washington, DC 20410; email Colette Pollard at Colette.Pollard@hud.gov or telephone 202-402-3400. Persons with hearing or speech impairments may access this number through TTY by calling the toll-free Federal Relay Service at (800) 877-8339. This is not a toll-free number. Copies of available documents submitted to OMB may be obtained from Ms. Pollard.

SUPPLEMENTARY INFORMATION: This notice informs the public that HUD has submitted to OMB a request for approval of the information collection described in Section A. The Federal Register notice that solicited public comment on the information collection for a period of 60 days was published on November 8, 2013.

A. Overview of Information Collection

Title of Information Collection: Housing Discrimination Information Form HUD-903.1, HUD 903.1A, HUD-903-1B, HUD-903.1F, HUD-903.1KOR, HUD-903.1C, HUD-903.1CAM, HUD-903.1RUS, 903-1_Somali.

OMB Approval Number: 2529-0011.

Type of Request: Extension of a currently approved collection.

Form Number: HUD-903.1.

Description of the need for the information and proposed use: HUD uses the Housing [disability], familial status, or national origin Discrimination Information Form HUD-903.1 (Form) to collect pertinent information from persons wishing to file housing discrimination complaints with HUD under the Fair Housing Act. The Fair Housing Act makes it unlawful to discriminate in the sale, rental, occupancy, advertising, or insuring of residential dwellings; or to discriminate in residential real estate-related transactions; or in the provision of brokerage services, based on race, color, religion, sex, handicap.

Any person who claims to have been injured by a discriminatory housing practice, or any person who believes that he or she will be injured by a discriminatory housing practice that is about to occur, may file a complaint with HUD not later than one year after the alleged discriminatory housing practice occurs or terminates. The Form promotes consistency in the collection of information necessary to contact persons who file housing discrimination complaints with HUD. It also aids in the collection of information necessary for initial assessments of HUD's authority to investigate alleged discriminatory housing practices under the Fair Housing Act.

This information may subsequently be provided to persons against whom complaints are filed [“respondents”], as required under section 810(a)(1)(B)(ii) of the Fair Housing Act.

Agency form number: Form HUD-903.1 (English), Form HUD-903.1A (Spanish), Form HUD-903-1B (Chinese), Form HUD-903.1F (Vietnamese), Form HUD-903.1K (Korean), Form HUD-903.1AR (Arabic), Form HUD-903.1CAM (Cambodian), Form HUD-903.1R (Russian), and Form HUD-903-1_(Somali).

Respondents (i.e. affected public): Individuals or households; businesses or other for-profit, not-for-profit institutions; State, Local, or Tribal Governments.

Estimation of the total number of hours needed to prepare the information collection, including the number of respondents, frequency of response, and hours of responses: During FY 2012, HUD staff received approximately 15,688 information submissions from persons wishing to file housing discrimination complaints with HUD. Telephone contacts accounted for 3,694 of this total. The remaining 11,994 complaint submissions were transmitted to HUD by mail, in-person, and via the Internet. HUD estimates that an aggrieved person requires approximately 45 minutes in which to complete this Form. The Form is completed once by each aggrieved person. Therefore, the total number of annual burden hours for this Form is 8,996 hours.

11,994 × 1 (frequency) × .45 minutes (.75 hours) = 8,996 hours.

Annualized cost burden to complainants: HUD does not provide postage-paid mailers for this information collection. Accordingly, persons who choose to submit this Form to HUD by mail must pay the prevailing cost of First Class Postage. As of the date of this Notice, the annualized cost burden per person, based on a one-time submission of this Form to HUD via First Class Postage, is Forty-Six Cents ($0.46) per person. During FY 2012, FHEO staff received approximately 4,875 submissions of potential complaint information by mail. Based on this number, HUD estimates that the total annualized cost burden for aggrieved persons who submit this Form to HUD by mail is $2,242.50. Aggrieved persons also may submit this Form to HUD in person, by facsimile, or electronically via the Internet.

B. Solicitation of Public Comment

This notice is soliciting comments from members of the public and affected parties concerning the collection of information described in Section A on the following:

(1) Whether the proposed collection of information is necessary for the proper performance of the functions of the agency, including whether the information will have practical utility; (2) The accuracy of the agency's estimate of the burden of the proposed collection of information; (3) Ways to enhance the quality, utility, and clarity of the information to be collected; and (4) Ways to minimize the burden of the collection of information on those who are to respond; including through the use of appropriate automated collection techniques or other forms of information technology, e.g., permitting electronic submission of responses. HUD encourages interested parties to submit comment in response to these questions.

Authority: Section 3507 of the Paperwork Reduction Act of 1995, 44 U.S.C. Chapters 35.

Dated: January 16, 2014.
Colette Pollard,
Department Reports Management Officer, Office of the Chief Information Officer.

[FR Doc. 2014-01333 Filed 1-22-14; 8:45 am]

BILLING CODE 4210-67-P